ENVIRONMENTAL PROTECTION AGENCY

[FRL-7105-8]

Office of Research and Development; Board of Scientific Counselors Subcommittee Review of the National Center for Environmental Research

AGENCY: Environmental Protection Agency (EPA).

ACTION: Notice of review.

SUMMARY: Pursuant to the Federal Advisory Committee Act, Public Law 92-463, as amended (5 U.S.C., App. 2) notification is hereby given that the Environmental Protection Agency, Office of Research and Development (ORD), Board of Scientific Counselors (BOSC), Subcommittee will meet to review the National Center for Environmental Research.

DATES: The review will be held on January 23-24, 2002. On Wednesday, January 23, 2002, the review will begin at 9 a.m., and will recess at 4 p.m. On Thursday, January 24, 2002, the review will reconvene at 8:30 a.m. and adjourn at approximately 12 noon. All times noted are Eastern Time.

ADDRESSES: The review will be held at the Ronald Reagan Building, 1300 Pennsylvania Avenue, NW., Glacier Bay Conference Room, Room Number 81102, Washington, DC 20004.

SUPPLEMENTARY INFORMATION: Anyone desiring a draft agenda may fax their request to Shirley R. Hamilton, (202) 565-2444. The meeting is open to the public. Any member of the public wishing to make comments at the meeting should contact Shirley Hamilton, Designated Federal Officer, U.S. Environmental Protection Agency, Board of Scientific Counselors, Office of Research and Development (8701R), 1200 Pennsylvania Avenue NW., Washington, DC 20460 by telephone at (202) 564-6853. In general, each individual making an oral presentation will be limited to a total of three minutes.

FOR FURTHER INFORMATION CONTACT: Shirley R. Hamilton, Designated Federal Officer, U.S. Environmental Protection Agency, Office of Research and Development, (8701R), 1200 Pennsylvania Avenue, NW., Washington, DC 20460, (202) 564-6853.

Dated: November 13, 2001.
Peter W. Preuss,
Director, National Center for Environmental Research.

[FR Doc. 01-29103 Filed 11-20-01; 8:45 am]

BILLING CODE 6560-50-P